DEPARTMENT OF THE INTERIOR

Bureau of Land Management

[LLMTC 00900.L16100000.DP0000 MO#4500103670]

Notice of Public Meeting, Dakotas Resource Advisory Council

AGENCY: Bureau of Land Management, Interior.

ACTION: Notice.

SUMMARY: In accordance with the Federal Land Policy and Management Act and the Federal Advisory Committee Act of 1972, the U.S. Department of the Interior, Bureau of Land Management (BLM) Dakotas Resource Advisory Council (RAC) will meet as indicated below.

DATES: The Dakotas RAC meeting will be held on February 16, 2017.

ADDRESSES: The RAC will meet at the BLM South Dakota Field Office, 309 Bonanza Street in Belle Fourche, South Dakota. The meeting location and times will also be announced in a local news release.

FOR FURTHER INFORMATION CONTACT: Mark Jacobsen, Public Affairs Specialist, BLM Eastern Montana/Dakotas District, 111 Garryowen Road, Miles City, Montana 59301; (406) 233-2831; mjacobse@blm.gov. Persons who use a telecommunications device for the deaf (TDD) may call the Federal Relay Service (FRS) at 1-800-677-8339 to contact the above individual during normal business hours. The FIRS is available 24 hours a day, 7 days a week to leave a message or question with the above individual. You will receive a reply during normal business hours.

SUPPLEMENTARY INFORMATION: The 15-member council advises the Secretary of the Interior through the BLM on a variety of planning and management issues associated with public land management in North and South Dakota. At this meeting, topics will include: An Eastern Montana/Dakotas District report, North Dakota Field Office and South Dakota Field Office manager reports, new member introductions, discussion on the Montana/Dakotas RAC chair meeting, individual RAC member reports and other topics and issues the council may wish to cover. All meetings are open to the public and the public may present written comments to the council. Each formal RAC meeting will have time allocated for hearing public comments. Depending on the number of persons wishing to comment and time available, the time for individual oral comments may be limited. Individuals who plan to attend and need special assistance, such as sign language interpretation, tour transportation or other reasonable accommodations should contact the BLM as provided above.

Authority: 43 CFR 1784.4-2.

Richard T. Cardinale,
Acting Assistant Secretary, Land and Minerals Management.

[FR Doc. 2017-02302 Filed 2-2-17; 8:45 am]

BILLING CODE 4310-DN-P